DEPARTMENT OF ENERGY

Federal Energy Regulatory Commission

[Project No. 14635-001]

Village of Gouverneur, New York; Notice of Application Accepted for Filing and Soliciting Motions To Intervene and Protests

Take notice that the following hydroelectric application has been filed with the Commission and is available for public inspection.

a. Type of Application: Original Minor License.

b. Project No.: 14635-001.

c. Date filed: September 20, 2019.

d. Applicant: Village of Gouverneur, New York.

e. Name of Project: Gouverneur Hydroelectric Project.

f. Location: On the Oswegatchie River, in the Village of Gouverneur, St. Lawrence County, New York. The project does not occupy any federal land.

g. Filed Pursuant to: Federal Power Act 16 U.S.C. 791(a)-825(r).

h. Applicant Contact: Ronald P. McDougall, Mayor, Village of Gouverneur, 33 Clinton Street, Gouverneur, NY 13642; (315) 287-1720.

i. FERC Contact: Jody Callihan, (202) 502-8278 or jody.callihan@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing but is not ready for environmental analysis.

l. The Gouverneur Project consists of the following existing facilities: (1) A 250-foot-long concrete gravity dam, including two bridge piers, which separate the dam into three spillways that range in crest elevation from 403.4 to 403.7 feet North American Vertical Datum of 1988 (NAVD88); (2) an impoundment with a surface area of 109 acres at the normal pool elevation of 403.8 feet NAVD88; (3) a concrete intake structure containing two trash rack bays separated by a 2-foot-wide center pier; (4) a 20-foot-long by 36-foot-wide powerhouse that is integral with the dam and contains two vertical bulb turbines rated at 100 kilowatts each and two 100-kilovolt-ampere Westinghouse generators with a power factor of 0.8; and (5) appurtenant facilities.

The Village proposes to continue operating the project in a run-of-river mode. In addition, the Village proposes to release a minimum flow of 110 cubic feet per second over the project's spillways. The project generated an annual average of 1,195 megawatt-hours between 2014 and 2017.

m. In addition to publishing the full text of this document in the Federal Register, the Commission provides all interested individuals an opportunity to view and/or print the contents of this document via the internet through the Commission's Home Page (www.ferc.gov) using the eLibrary link. At this time, the Commission has suspended access to the Commission's Public Access Room due to the proclamation declaring a National Emergency concerning the Novel Coronavirus Disease (COVID-19), issued by the President on March 13, 2020. For assistance, contact FERC at FERCOnlineSupport@ferc.gov or call toll-free, (886) 208-3676 or TTY, (202) 502-8659.

You may also register online at http://www.ferc.gov/docs-filing/esubscription.asp to be notified via email of new filings and issuances related to this or other pending projects. For assistance, contact FERC Online Support.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

When the application is ready for environmental analysis, the Commission will issue a public notice requesting comments, recommendations, terms and conditions, or prescriptions.

All filings must (1) bear in all capital letters the title PROTEST or MOTION TO INTERVENE, NOTICE OF INTENT TO FILE COMPETING APPLICATION, or COMPETING APPLICATION; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Milestone | Target date
Issue Additional Information Request | May 2020.
Responses to Additional Information Request | June 2020.
Issue Scoping Document 1 for comments | June 2020.
Comments on Scoping Document 1 | July 2020.
Issue Notice of Ready for Environmental Analysis | July 2020.
Issue Scoping Document 2 | September 2020.
Commission issues EA | January 2021.
Comments on EA | February 2021.

Dated: May 18, 2020.
Kimberly D. Bose,
Secretary.

[FR Doc. 2020-11118 Filed 5-21-20; 8:45 am]

BILLING CODE 6717-01-P